OFFICE OF PERSONNEL MANAGEMENT

Proposed Collection; Comment Request for Review of a New Information Collection: Standard Form 2821

AGENCY: Office of Personnel Management.

ACTION: Notice.

SUMMARY: In accordance with the Paperwork Reduction Act of 1995 (Public Law 104-13, May 22, 1995), this notice announces that the Office of Personnel Management (OPM) intends to submit to the Office of Management and Budget a request for review of a new information collection. SF 2821, Agency Certification of Insurance Status, is completed by agencies when an employee's life insurance stops or is scheduled to stop, except when the employee voluntarily cancels coverage, or the employee is immediately transferring to another position which will provide eligibility for Federal Employees' Group Life Insurance (FEGLI) coverage. This collection allows agencies and/or the retirement system to accurately report the level of coverage and value of the employee's life insurance for conversion and portability purposes.

The SF 2821 also will be used by family members who wish to convert Option C coverage, as well as by assignees and separated employees who wish to convert some or all of their coverages or port Option B coverage. Compensationers and retirees losing compensation or annuity benefits will use the form to convert their coverage(s). The SF 2821 will incorporate the function of the SF 2819, Notice of Conversion Privilege. Upon publication of the revised SF 2821, the SF 2819 will be obsolete.

Comments are particularly invited on: whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

Approximately 7,500 SF 2821 forms will be completed annually. We estimate it takes approximately 5 minutes to complete the form. The annual burden is estimated at 625 hours.

For copies of this proposal, contact Mary Beth Smith-Toomey on (202) 606-8358, or E-mail to mbtoomey@opm.gov

DATES: Comments on this proposal should be received on or before June 18, 2001.

ADDRESSES: Send or deliver comments to—Christopher Meuchner, Benefits Specialist, Insurance Policy and Information Division, Retirement and Insurance Service, U.S. Office of Personnel Management, 1900 E Street, NW., Room 3425, Washington, DC 20415.

FOR INFORMATION REGARDING ADMINISTRATIVE COORDINATION—CONTACT: Donna G. Lease, Team Leader, Forms Analysis and Design, Budget and Administrative Services Division, (202) 606-0623.

Office of Personnel Management.
Steven R. Cohen,
Acting Director.

[FR Doc. 01-9478 Filed 4-16-01; 8:45 am]

BILLING CODE 6325-50-P